DEPARTMENT OF JUSTICE

Office of Community Oriented Policing Services FY 2005 Community Policing Discretionary Grants

AGENCY: Office of Community Oriented Policing Services, Department of Justice.

ACTION: Notice of availability of the Finding of No Significant Impact and the Environmental Assessment.

SUMMARY: The Environmental Assessment, which is available to the public, concludes that the methamphetamine investigation and clandestine laboratory closure activities of the Methamphetamine Initiative will not have significant impact on the quality of the human environment given adherence to all applicable laws and regulations.

ADDRESSES: For copies of the Environmental Assessment, please contact: COPS Grants Administration Division, 1100 Vermont Avenue, NW., Washington, DC 20530; phone: (202) 616-3031 or 1-800-431-6770.

FOR FURTHER INFORMATION CONTACT: The U.S. Department of Justice Response Center, 1-800-421-6770 and ask to speak with your Grant Program Specialist.

SUPPLEMENTARY INFORMATION: In Fiscal Year 2003, the COPS Office prepared an Environmental Assessment for its methamphetamine law enforcement programs, with specific application for the Methamphetamine Initiative. This Environmental Assessment was prepared as required by the Council on Environmental Quality's regulations (40 CFR parts 1500 through 1508), implementing the National Environmental Policy Act of 1969 (42 U.S.C. 4321, et al.) The Environmental Assessment is current and accurate, since the underlying science on which it was based has not changed. The Methamphetamine Initiative addresses a broad array of law enforcement initiatives pertaining to the investigation of methamphetamine trafficking in many heavily impacted areas of the country. For the purposes of this program, funded items may include training of law enforcement officers in methamphetamine-related issues; collection and maintenance of intelligence and information relative to methamphetamine trafficking and traffickers; investigation, arrest and prosecution of producers, traffickers and users of methamphetamine; interdiction and removal of laboratories, finished products, and precursor chemicals and other elements necessary to produce methamphetamine; transportation and storage of finished products, and precursor chemicals, and other elements necessary to produce methamphetamine; and preventive efforts to reduce the spread and use of methamphetamine. Individual projects will reflect a concentration on program areas consistent with Congressional appropriations.

Among the many challenges faced by law enforcement agencies in the Methamphetamine Initiative will be discovery, interdiction, and dismantling of clandestine drug laboratories. These lab sites, as well as other methamphetamine crime venues must be comprehensively dealt with in compliance with a variety of health, safety and environmental laws and regulations. The COPS Office requires that recipients, when encountering illegal drug laboratories, use grant funds to effect the proper removal and disposal of hazardous materials located at those laboratories and directly associated sites in accordance with all applicable laws and regulations.

Overview

Environmental Assessment

The COPS Office will award grants to State and local criminal justice agencies for the FY 2005 COPS Methamphetamine Initiative. The Environmental Assessment concludes that the funding of this program will not have a significant impact on the quality of the human environment given adherence to all applicable laws and regulations. Therefore, an Environmental Impact Statement will not be prepared for the funding of this program.

Dated: January 26, 2005.
Carl R. Peed,
Director, Office of Community Oriented Policing Services.

[FR Doc. 05-3150 Filed 2-17-05; 8:45 am]

BILLING CODE 4410-AT-M